DEPARTMENT OF ENERGY

Federal Energy Regulatory Commission

Combined Notice of Filings

Take notice that the Commission has received the following Natural Gas Pipeline Rate and Refund Report filings:

Filings Instituting Proceedings

Docket Numbers: PR15-16-000.

Applicants: Public Service Company of Colorado.

Description: Tariff filing per 284.123(b)(1)(ii): PSCo SOR Filing—Gas to be effective 1/1/2015; TOFC: 980.

Filed Date: 1/29/15.

Accession Number: 20150129-5267.

Comments Due: 5 p.m. ET 2/19/15.

284.123(g) Protests Due:

Docket Numbers: PR15-17-000.

Applicants: Regency Intrastate Gas LP.

Description: Tariff filing per 284.123(b)(2) + (g): Petition for Rate Approval & Revised SOC to be effective 2/1/2015; TOFC: 1310.

Filed Date: 2/2/15.

Accession Number: 20150202-5000.

Comments Due: 5 p.m. ET 2/23/15.

284.123(g) Protests Due: 5 p.m. ET 4/3/15.

Docket Numbers: PR15-18-000.

Applicants: Southern California Gas Company.

Description: Tariff filing per 284.123(b)(1) + (g): Baseline Statement of Operating Conditions to be effective 2/2/2015; TOFC: 1330.

Filed Date: 2/2/15.

Accession Number: 20150202-5251.

Comments Due: 5 p.m. ET 2/23/15.

284.123(g) Protests Due: 5 p.m. ET 4/3/15.

Docket Numbers: RP15-427-000.

Applicants: Iroquois Gas Transmission System, L.P.

Description: § 4(d) rate filing per 154.204: 02/03/15 Negotiated Rates—ConEdison Energy Inc. (HUB) 2275-89 to be effective 2/2/2015.

Filed Date: 2/3/15.

Accession Number: 20150203-5122.

Comments Due: 5 p.m. ET 2/17/15.

Docket Numbers: RP15-428-000.

Applicants: Midcontinent Express Pipeline LLC.

Description: § 4(d) rate filing per 154.204: Removal of Expired Agreements to be effective 3/6/2015.

Filed Date: 2/3/15.

Accession Number: 20150203-5127.

Comments Due: 5 p.m. ET 2/17/15.

Docket Numbers: RP15-429-000.

Applicants: Iroquois Gas Transmission System, L.P.

Description: § 4(d) rate filing per 154.204: 02/03/15 Negotiated Rates—Trafigura Trading LLC (HUB) 7445-89 to be effective 2/2/2015.

Filed Date: 2/3/15.

Accession Number: 20150203-5132.

Comments Due: 5 p.m. ET 2/17/15.

Docket Numbers: RP15-430-000.

Applicants: Northern Natural Gas Company.

Description: § 4(d) rate filing per 154.204: 20150203 Negotiated Rate Correction Filing to be effective 2/1/2015.

Filed Date: 2/3/15.

Accession Number: 20150203-5136.

Comments Due: 5 p.m. ET 2/17/15.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 4, 2015.
Nathaniel J. Davis, Sr.,
Deputy Secretary.

[FR Doc. 2015-02954 Filed 2-11-15; 8:45 am]

BILLING CODE 6717-01-P